FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments regarding each of these applications must be received at the Reserve Bank indicated or the offices of the Board of Governors, Ann E. Misback, Secretary of the Board, 20th Street and Constitution Avenue NW, Washington, DC 20551-0001, not later than April 17, 2023.

A. Federal Reserve Bank of Chicago (Colette A. Fried, Assistant Vice President) 230 South LaSalle Street, Chicago, IL 60604.

1. The Kehl Family 2009 Trust; the Kehl Grandchildren's Trust dated November 5, 1997; the Kehl Grandchildren's Trust fbo Cody J. Kehl dated November 5, 1997; the Ruth A. Kehl Grandchildren's Trust fbo Jacob R. Winter dated November 5, 1997; and the Ruth A. Kehl Grandchildren's Trust fbo Tanner C. Kehl dated November 5, 1997, The First National Bank in Sioux Falls, as trustee of the aforementioned trusts, all of Sioux Falls, South Dakota; The Kevin A. Kehl Trust May 15, 2017, Kevin A. Kehl, as trustee, Dubuque, Iowa; and Krystina L. Moore, Tiffin, Iowa; to join the Kehl Family Control Group, a group acting in concert, to acquire voting shares of Savanna-Thomson Investment, Inc., Savanna, Illinois, and thereby indirectly acquire voting shares of Savanna-Thomson State Bank, Thomas, Illinois.

Additionally, Daniel J. Kehl, Solon, Iowa, to join the Kehl Family Control Group, to retain voting shares of Savanna-Thomson Investment, Inc., and thereby indirectly acquire voting shares of Savanna-Thomson State Bank.

Board of Governors of the Federal Reserve System.
Margaret McCloskey Shanks,
Deputy Secretary of the Board.

[FR Doc. 2023-06752 Filed 3-30-23; 8:45 am]

BILLING CODE P